DEPARTMENT OF COMMERCE

National Oceanic and Atmospheric Administration

National Sea Grant Review Panel

AGENCY: Department of Commerce, National Oceanic and Atmospheric Administration, Oceanic and Atmospheric Research, National Sea Grant Program.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education and extension, science and technology programs, and other matters as described below:

DATES: The announced meeting is scheduled for: Sunday, June 5, 2005, 8 a.m. to 5 p.m.

ADDRESSES: North Samoset Room, Samoset Resort, 220 Warrenton Street, Rockport, Maine 04856.

FOR FURTHER INFORMATION CONTACT: Dr. Francis M. Schuler, Designated Federal Official, National Sea Grant College Program, National Oceanic and Atmospheric Administration, 1315 East-West Highway, Room 11837, Silver Spring, Maryland 20910, (301) 713-2445.

SUPPLEMENTARY INFORMATION: The Panel, which consists of a balanced representation from academia, industry, state government and citizens groups, was established in 1976 by Section 209 of the Sea Grant Improvement Act (Pub. L. 94-461, 33 U.S.C. 1128). The Panel advises the Secretary of Commerce and the Director of the National Sea Grant College Program with respect to operations under the Act, and such other matters as the Secretary refers to them for review and advice.

The agenda for this meeting can be found at http://www.seagrant.noaa.gov/other/admininfo.html. This meeting will be open to the public.

Louisa Koch,
Deputy Assistant Administrator, Office of Oceanic and Atmospheric Research.

[FR Doc. 05-10464 Filed 5-24-05; 8:45 am]

BILLING CODE 3510-KA-P